DEPARTMENT OF TRANSPORTATION

Maritime Administration

[Docket No. MARAD-2024-0144]

Request for Comments on the Renewal of a Previously Approved Collection: Automated Mutual Assistance Vessel Rescue (AMVER) System

AGENCY: Maritime Administration, DOT.

ACTION: Notice.

SUMMARY: The Maritime Administration (MARAD) invites public comments on our intention to request the Office of Management and Budget (OMB) approval to renew an information collection in accordance with the Paperwork Reduction Act of 1995. The proposed collection OMB 2133-0025 Automated Mutual Assistance Vessel Rescue (AMVER) System is used to maintain a current plot of U.S.-Flag and U.S.-owned vessels. Since the last renewal, there was an increase in the total respondents to this collection, which has resulted in more responses and higher burden hours. There are no other changes to this collection. We are required to publish this notice in the Federal Register to obtain comments from the public and affected agencies.

ADDRESSES: Written comments and recommendations for the proposed information collections should be sent within 30 days of publication of this notice to www.reginfo.gov/public/do/PRAMain. Find this particular information collection by selecting “Currently under 30-day Review—Open for Public Comments” or by using the search function.

FOR FURTHER INFORMATION CONTACT: Alex Sedlacek, 202-366-1031, Division of Sealift Operations and Emergency Response, Maritime Administration, U.S. Department of Transportation, 1200 New Jersey Ave. SE, Washington, DC 20590, Email: alexander.sedlacek@dot.gov.

SUPPLEMENTARY INFORMATION:

Title: Automated Mutual-Assistance Vessel Rescue (AMVER) System.

OMB Control Number: 2133-0025.

Type of Request: Extension with Change of a Previously Approved Collection.

Abstract: The collection of information will be used to gather information regarding the location of U.S.-flag vessels and certain other U.S. citizen-owned vessels for the purpose of search and rescue in the saving of lives at sea and for the marshalling of ships for national defense and safety purposes.

Respondents: U.S.-flag and U.S. citizen-owned vessels.

Affected Public: Business or other for profit.

Estimated Number of Respondents: 185.

Estimated Number of Responses: 33,855.

Estimated Hours per Response: .07.

Annual Estimated Total Annual Burden Hours: 2,370.

Frequency of Response: Annually.

A 60-day Federal Register Notice soliciting comments on this information collection was published on September 12, 2024 at 89 FR 74371 (Federal Register (FR) 2024-20679).

(Authority: The Paperwork Reduction Act of 1995; 44 U.S.C. chapter 35, as amended; and 49 CFR 1.49.)

By Order of the Maritime Administrator.
T. Mitchell Hudson, Jr.,
Secretary, Maritime Administration.

[FR Doc. 2024-27344 Filed 11-21-24; 8:45 am]

BILLING CODE 4910-81-P